DEPARTMENT OF TRANSPORTATION

Federal Motor Carrier Safety Administration

[Docket No. FMCSA-2008-0362]

Medical Review Board (MRB); Notice of Meeting

AGENCY: Federal Motor Carrier Safety Administration (FMCSA), DOT.

ACTION: Notice of meeting.

SUMMARY: This notice announces a meeting of the Medical Review Board Advisory Committee (MRB), which will take place via videoconference.

DATES: The meeting will be held on Wednesday, September 29, 2021, from 1:00 to 5:00 p.m., Eastern Time (ET). The meeting will be open to the public for its entirety. Advance registration is recommended via the FMCSA website at www.fmcsa.dot.gov/mrb. Requests for accommodations because of a disability must be received by September 16, 2021. Requests to submit written materials to be reviewed during the meeting must be received no later than September 20, 2021. Please register to attend the meeting by September 20, 2021.

ADDRESSES: The meeting will be held via videoconference. To indicate that you will attend, please register at www.fmcsa.dot.gov/mrb. Those members of the public who would like to participate should go to https://www.fmcsa.dot.gov/advisory-committees/mrb/meetings to access the meeting, task statements, a detailed agenda for the entire meeting, meeting minutes and additional information on the committee and its activities. The meeting will be recorded, and a link to the recording will be posted on the FMCSA website.

FOR FURTHER INFORMATION CONTACT: Ms. Shannon L. Watson, Senior Advisor to the Associate Administrator for Policy, Federal Motor Carrier Safety Administration, U.S. Department of Transportation, 1200 New Jersey Avenue SE, Washington, DC 20590, (202) 3660-2925, mrb@dot.gov. Any committee-related request should be sent to the person listed in this section.

SUPPLEMENTARY INFORMATION:

I. Background

The MRB was created under the Federal Advisory Committee Act (FACA), in accordance with section 4116 of the Safe, Accountable, Flexible, Efficient Transportation Equity Act: A Legacy for Users, SAFETEA-LU, Public Law 109-59 (2005) (codified as amended at 49 U.S.C. 31149), to provide advice to FMCSA on “medical standards for operators of commercial motor vehicles that will ensure that the physical condition of operators of commercial motor vehicles is adequate to enable them to operate the vehicles safely.” The MRB operates in accordance with FACA under the terms of the MRB charter, filed November 25, 2019.

II. Agenda

At the meeting, the agenda will cover MRB's consideration of the U.S. Food and Drug Administration's June 30, 2021 announcement regarding the voluntary recall of certain Continuous Positive Air Pressure (CPAP) machines due to potential health risks. FMCSA will task the MRB with providing recommendations about how to best assist medical examiners on the National Registry of Certified Medical Examiners (National Registry) and the commercial motor vehicle (CMV) drivers who use these CPAPs on identifying reliable sources of information concerning options for drivers with machines covered by the recall.

III. Meeting Participation

Although not required, advance registration is encouraged. To indicate that you will attend, please register at the website listed in the ADDRESSES section by the deadline referenced in the DATES section. The meeting will be open to the public for its entirety.

The U.S. Department of Transportation is committed to providing equal access to this meeting for all participants. If you need alternative formats or services because of a disability, such as sign language, interpretation, or other ancillary aids, please contact the person listed in the FOR FURTHER INFORMATION CONTACT section.

Verbal comments from the public will be heard throughout the meeting, at the discretion of the MRB chairman and designated federal officer. These statements may be limited in duration to ensure that all who wish to comment may do so. Members of the public may submit written comments to the person listed in the FOR FURTHER INFORMATION CONTACT section on the topics to be considered during the meeting by the deadline referenced in the DATES section. Any member of the public may submit a written statement after the meeting deadline, and it will be presented to the committee.

Larry W. Minor,
Associate Administrator for Policy.

[FR Doc. 2021-19803 Filed 9-13-21; 8:45 am]

BILLING CODE 4910-EX-P